DEPARTMENT OF HEALTH AND HUMAN SERVICES

Centers for Disease Control and Prevention

Breast and Cervical Cancer Early Detection and Control Advisory Committee

In accordance with section 10(a)(2) of the Federal Advisory Committee Act (Pub. L. 92-463), the Centers for Disease Control and Prevention (CDC) announces the following committee meeting:

Name: Breast and Cervical Cancer Early Detection and Control Advisory Committee (BCCEDCAC).

Times and Dates: 8 a.m.-5 p.m., June 23, 2004. 8 a.m.-3:30 p.m., June 24, 2004.

Place: Hyatt Regency New Orleans, Poydras Plaza at Loyola Ave., New Orleans, Louisiana, 70113-1805. Phone: 1-504-561-1234.

Status: Open to the public, limited only by the space available.

Purpose: The committee is charged with advising the Secretary, Department of Health and Human Services, and the Director, CDC, regarding the early detection and control of breast and cervical cancer. The committee makes recommendations regarding national program goals and objectives; implementation strategies; and program priorities including surveillance, epidemiologic investigations, education and training, information dissemination, professional interactions and collaborations, and policy.

Matters To Be Discussed: The agenda will include discussion and review of National Breast and Cervical Early Detection Program (NBCCEDP) Programmatic issues related to the NBCCEDP Manual review/update, IMS (Information Management Services) update, Cervical cancer policy and new technologies, recruitment issues, Models of cancer registry, New mammography and CAD, Breast and Cervical issues, and Clinical Breast Exams issues; Comprehensive and Integrated Approaches Cancer Control; Health disparities within NBCCEDP; Building Better Partnerships; and discussion with NBCCEDP Program Directors related to implementation of the National Breast and Cervical Program.

Agenda items are subject to change as priorities dictate.

Contact Person for More Information: Debra Younginer, Executive Secretary, BCCEDCAC, Division of Cancer Prevention and Control, National Center for Chronic Disease Prevention and Health Promotion, CDC, 4770 Buford Highway, Mailstop K-57, Chamblee, Georgia 30316, telephone: 770-488-1074.

The Director, Management Analysis and Services Office, has been delegated the authority to sign Federal Register notices pertaining to announcements of meetings and other committee management activities for both CDC and the Agency for Toxic Substances and Disease Registry.

Dated: June 4, 2004.
Alvin Hall,
Director, Management Analysis and Services Office, Centers for Disease Control and Prevention.

[FR Doc. 04-13133 Filed 6-9-04; 8:45 am]

BILLING CODE 4163-18-P